COMMITTEE FOR PURCHASE FROM PEOPLE WHO ARE BLIND OR SEVERELY DISABLED

Procurement List; Proposed additions and deletions

AGENCY: Committee for Purchase From People Who Are Blind or Severely Disabled.

ACTION: Proposed Additions to and Deletions from the Procurement List.

SUMMARY: The Committee is proposing to add product(s) to the Procurement List that will be furnished by nonprofit agencies employing persons who are blind or have other severe disabilities, and deletes service(s) previously furnished by such agencies.

DATES: Comments must be received on or before: November 29, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

7930-01-621-6646—Detergent, Dishwashing, EPA Certified, BX/4 Bottles

7930-01-618-2179—Rinse Additive, Dishwasher, EPA Certified, 2 Bottles

7930-00-NIB-2190—Cleaner, Degreaser, Multipurpose, EPA Certified

7930-00-NIB-2191—Pre-Soak, Flatware, EPA Certified

7930-00-NIB-2192—De-Limer/De-Scaler, Dishwasher, EPA Certified

7930-00-NIB-2193—Cleaner, Floor, Environmentally Safe

Designated Source of Supply: Asso. for the Blind and Visually Impaired-Goodwill Industries of Greater Rochester, Inc., Rochester, NY

Mandatory For: Total Government Requirement

Contracting Activity: FEDERAL ACQUISITION SERVICE, GSA/FSS GREATER SOUTHWEST ACQUISITI

Deletions

The following service(s) are proposed for deletion from the Procurement List:

Services

Service Type: Data Entry/Telephone

Mandatory for: GSA, FAS, Heartland Acquisition Center, Integrated Facilities Management & Industrial Products Solutions Center, Kansas City, MO

Designated Source of Supply: JobOne, Independence, MO

Contracting Activity: FEDERAL ACQUISITION SERVICE, GSA/FAS TOOLS ACQUISITION DIVISION

Service Type: Janitorial/Custodial

Mandatory for: GSA, Parking Lot Bismark: 1st and Thayer Streets, Bismarck, ND

Designated Source of Supply: Pride, Inc., Bismarck, ND

Contracting Activity: PUBLIC BUILDINGS SERVICE, PBS R8

Service Type: Janitorial/Custodial

Mandatory for: GSA, Storage Building: 117 Main Street, Bismarck, ND

Designated Source of Supply: Pride, Inc., Bismarck, ND

Contracting Activity: PUBLIC BUILDINGS SERVICE, PBS R8

Service Type: Custodial Services

Mandatory for: Department of Veterans Affairs, Community Based Outpatient Clinic, 225 Boston Road, Lynn, MA

Mandatory for: Department of Veterans Affairs, Community Based Outpatient Clinic, 108 Merrimack Street, Haverhill, MA

Designated Source of Supply: Morgan Memorial Goodwill Industries, Boston, MA

Contracting Activity: VETERANS AFFAIRS, DEPARTMENT OF, 241-NETWORK CONTRACT OFFICE 01

Service Type: Installation Support Services

Mandatory for: US Army, Fort Hood, Fort Hood, TX

Designated Source of Supply: Training, Rehabilitation, & Development Institute, Inc., San Antonio, TX

Contracting Activity: DEPT OF THE ARMY, W6QM MICC-FDO FT HOOD

Service Type: Janitorial/Custodial

Mandatory for: Internal Revenue Service: 11501 and 11601 Roosevelt Boulevard, Philadelphia, PA

Contracting Activity: INTERNAL REVENUE SERVICE, DEPT OF TREAS, IRS, OFC OF PROCUREMENT OPERATIONS

Service Type: Mailroom Operation

Mandatory for: GSA, Arlington: Crystal Mall #3, Arlington, VA

Designated Source of Supply: Didlake, Inc., Manassas, VA

Contracting Activity: OFFICE OF THE ADMINISTRATOR (ACMD), THE INTERNAL ACQUISITION DIVISION (IAD)

Service Type: Janitorial/Custodial

Mandatory for: Denver Federal Center: Buildings 76, 80, 93 and 94, Denver, CO

Designated Source of Supply: North Metro Community Services for Developmentally Disabled, Westminster, CO

Contracting Activity: GENERAL SERVICES ADMINISTRATION, FPDS AGENCY COORDINATOR

Service Type: Janitorial/Custodial

Mandatory for: Denver Federal Center: Building 75, 80 (+3 adjacent trailers), 82, 83K, 85, 710, 710A and 810, Denver, CO

Designated Source of Supply: North Metro Community Services for Developmentally Disabled, Westminster, CO

Contracting Activity: GENERAL SERVICES ADMINISTRATION, FPDS AGENCY COORDINATOR

Michael R. Jurkowski,
Deputy Director, Business & PL Operations.

[FR Doc. 2020-24119 Filed 10-29-20; 8:45 am]

BILLING CODE 6353-01-P